NATIONAL AERONAUTICS AND SPACE ADMINISTRATION

[Notice (03-101)]

Notice of Prospective Patent License

AGENCY: National Aeronautics and Space Administration.

ACTION: Notice of prospective patent license.

SUMMARY: NASA hereby gives notice that the Nova-Tech Engineering, Inc., of Mountlake Terrace, Washington, has applied for a co-exclusive license to practice the invention disclosed in NASA Case No. MFS-30122-1 entitled “Auto-Adjustable Pin Tool For Friction Stir Welding.” Written objections to the prospective grant of a license should be sent to Mr. James J. McGroary, Patent Counsel/LS01, Marshall Space Flight Center, Huntsville, AL 35812. NASA has not yet made a determination to grant the requested license and may deny the requested license even if no objections are submitted within the comment period.

DATES: Responses to this notice must be received by September 24, 2003.

FOR FURTHER INFORMATION CONTACT: Sammy A. Nabors, Technology Transfer Department/CD30, Marshall Space Flight Center, Huntsville, AL 35812, (256) 544-5226.

Dated: August 28, 2003.
Robert M. Stephens,
Deputy General Counsel.

[FR Doc. 03-22906 Filed 9-8-03; 8:45 am]

BILLING CODE 7510-01-U